DEPARTMENT OF ENERGY

Federal Energy Regulatory Commission

[Docket No. ER02-2001-003 et al.]

Electric Quarterly Reports Intent To Revoke Market-Based Rate Authority

Issued: June 23, 2004.

Before Commissioners: Pat Wood, III, Chairman; Nora Mead Brownell, and Joseph T. Kelliher. ER98-4240-002, ER00-2363-001, ER00-1975-001, ER97-360-013, ER97-1428-006, ER97-3788-010, ER97-2604-007, ER97-1643-001, ER96-659-017, ER97-1630-004, ER96-1283-008, ER00-741-002, ER95-964-011, ER99-3005-003, ER97-2792-010, ER01-1279-002, ER96-1798-006, ER01-2656-001, ER97-4427-004, ER97-4173-001, ER94-1580-022, ER00-2248-001, ER96-280-016, ER98-1622-008, ER96-3086-011, ER01-1897-002, ER98-1486-004, ER00-1453-001, ER97-2413-012, ER98-3393-006, ER99-3142-001, ER96-795-011, ER97-3416-006, ER98-2535-004, ER01-1760-002, ER97-4787-001, ER96-2583-002, ER95-257-020, ER98-4264-001, ER96-594-006, ER96-2435-001, ER98-3433-005, ER95-792-014, ER98-1148-006, ER96-1119-008, ER99-505-005, ER97-135-001, ER98-174-007, ER99-1184-002, ER96-203-004, ER97-778-004, ER98-3344-001, ER98-1824-009, ER98-1953-006, ER98-1421-006, ER95-914-013, ER96-1930-011, ER97-3187-002, ER96-1754-001, ER96-332-008, ER94-931-016, ER96-1-018, ER95-1234-017, ER95-473-012, ER96-947-015, ER01-40-001, ER97-3056-004, ER98-3012-002, ER98-3261-003, ER97-765-008, ER95-1047-011, ER96-2882-014, ER98-2175-008, ER99-4044-001, ER96-1724-010, ER98-3526-007, ER95-385-010, ER01-1496-001, ER96-906-009, ER94-1676-017, ER92-429-020, ER97-2900-002, ER02-517-003, ER01-36-002, ER97-3306-003, ER00-1408-001, ER98-1829-009, ER97-2426-004, ER96-525-012, ER95-1855-012, ER97-1248-005, ER96-1150-003, ER97-3526-006, ER96-2914-007, ER97-2517-009, ER98-1823-005, Electric Quarterly Reports, Abacus Group, Ltd., Allied Companies, LLC, American Energy Savings, Inc., American Energy Trading, Inc., American Power Reserve Marketing, Anker Power Services, Inc., Applied Resources Integrated Services, Inc., APRA Energy Group, Inc., Bonneville Fuels Management Corp., Brennan Power, Inc., BTU Power Corporation, Canal Emirates Power International, Inc., CNB/Olympic Gas Services, Coast Energy Group, Community Electric Power Corporation, Connecticut Energy Cooperative, Inc., CPS Capital, Limited, Credit Suisse First Boston International, Electric Lite, Inc., Electrical Associates Power Marketing, Inc., Energy Resource Marketing, Inc., Energy Trading Company, Inc., Energy Transfer Group, LLC, Energy Unlimited, Inc., Energy2, Inc., EOPT Power Group Nevada, Inc., Equinox Energy, LLC, Essential Utility Resources, LLC, FINA Energy Services Company, Fortistar Power Marketing, LLC, FPH Electric, LLC, Gateway Energy Marketing, Global Energy & Technology, Inc., Hafslund Energy Trading, LLC, Haleywest, LLC, High Island Marketing, Inc., Hubbard Power & Light, Inc., Industrial Gas & Electric Services Co., International Energy Ventures, Inc., International Utility Consultants Inc., J.D. Enterprises, JMF Power Marketing, K Power Company, Inc., Kamps Propane, Inc., Kibler Energy Ltd, Lakeside Energy Services, LLC, Manner Technologies, LLC, Millennium Energy Corporation, Minnesota Agri-Power, LLC, Multi-Energies USA, Inc., NXIS, LLC, Omni Energy, Pacific Energy & Development Corp., PG Energy PowerPlus, Polaris Electric Power Company, Inc., Power Clearinghouse, Inc., Power Fuels, Inc., Power Systems Group Inc., Powerline Controls, Inc., PowerMark, LLC, PowerNet G.P., Powertec International, LLC, Prairie Winds Energy, Inc., Proven Alternatives, Inc., Quantum Energy Resources, Inc., Quinnipiac Energy, LLC, R. Hadler and Company, Inc., Rainbow Power USA LLC, Reliable Energy, Inc., Revelation Energy Resources Corporation, Ruffin Energy Services, Inc., Russell Energy Services Company, Salem Electric, Inc., Sandia Resources Corporation, SDS Petroleum Products, Inc., Shamrock Trading, LLC, Southeastern Energy Resources, Inc., Sundance Energy, SuperSystems, Inc., Texas-Ohio Power Marketing, Inc., Torco Energy Marketing, Inc., United Regional Energy, L.L.C., US Gas & Electric, USPower Energy, LLC, UTIL Power Marketing Inc., Utilimax.com, Inc., UtiliSource Corporation, UtiliSys Corporation, Utility Management & Consulting, Inc., VTEC Energy Inc., Wasatch Energy Corporation, Wheeled Electric Power Co., Woodruff Energy, Working Assets Green Power, Inc., Xenergy, Inc., XERXE Group, Inc.

1. Section 205 of the Federal Power Act (FPA), 16 U.S.C. 824d (2000), accord 18 CFR part 35 (2003), requires that all rates, terms and conditions of jurisdictional services be filed with the Commission. In Order No. 2001,¹ a final rule establishing revised public utility filing requirements for rates, terms and conditions of jurisdictional services,² the Commission required public utilities, including power marketers, to file, among other things, Electric Quarterly Reports summarizing the contractual terms and conditions in their agreements for all jurisdictional services (including market-based power sales, cost-based power sales, and transmission service) and transaction information (including rates) for short-term and long-term market-based power sales and cost-based power sales during the most recent calendar quarter. In Order No. 2001-C,³ the Commission required public utilities to file their Electric Quarterly Reports using software provided by the Commission. Commission staff review of the Electric Quarterly Report submittals has revealed that a number of public utilities that previously had been granted authority to sell power at market-based rates have failed to file Electric Quarterly Reports. Accordingly, this order notifies those public utilities that their market-based rate authorizations will be revoked unless they comply with the Commission's requirements.

¹ Revised Public Utility Filing Requirements, Order No. 2001, 67 FR 31043, FERC Stats. & Regs. ¶ 31,127 (April 25, 2002), reh'g denied, Order No. 2001-A, 100 FERC ¶ 61,074, reconsideration and clarification denied, Order No. 2001-B, 100 FERC ¶ 61,342, order directing filings, Order No. 2001-C, 101 FERC ¶ 61,314 (2002).

² Order No. 2001, FERC Stats. & Regs. ¶ 31,127 at P 11-12, 18-21.

³ Order No. 2001-C, 101 FERC ¶ 61,314 at P 9.

2. In Order No. 2001, the Commission stated that,

[i]f a public utility fails to file a[n] Electric Quarterly Report (without an appropriate request for extension), or fails to report an agreement in a report, that public utility may forfeit its market-based rate authority and may be required to file a new application for market-based rate authority if it wishes to resume making sales at market-based rates.⁴

⁴ Order No. 2001, FERC Stats. & Regs. ¶ 31,127 at P 222.

3. The Commission further stated that,

[t]he Electric Quarterly Reports are designed to satisfy the FPA section 205(c) requirements. For power marketers, the Electric Quarterly Report is intended to replace the current filing of Quarterly Transaction Reports summarizing their market-based rate transactions and the filing of long-term agreements. Electric Quarterly Reports are also intended to replace the Quarterly Transaction Reports and rate filings required of traditional utilities with market-based rate authority. Once this rule becomes effective, the requirement to comply with this rule will supersede the conditions in public utilities' market-based rate authorizations and failure to comply with the requirements of this rule will subject public utilities to the same consequences they would face for not satisfying the conditions in their rate authorizations, including possible revocation of their authority to make wholesale power sales at market-based rates.⁵

⁵ Id. at P 223.

4. Commission staff has determined that a number of public utilities that had been granted market-based rate authority have failed to file their Electric Quarterly Reports.⁶ Commission staff has made a concerted effort to contact all of the non-filing utilities listed in the caption by letter, by e-mail and by telephone to inform them of their regulatory obligation. On April 24, 2003, the Secretary of the Commission sent letters to 423 companies reminding them that they were required to file the Electric Quarterly Report. The letters stated:

⁶ In many cases, the utilities had previously failed to file Power Marketer Quarterly Reports (the predecessor to the Electric Quarterly Reports).

[w]ithin thirty (30) days of the date of this letter, your company utility must file Electric Quarterly Reports for the 2nd, 3rd, and 4th Quarters of 2002 and the 1st Quarter of 2003. Failure to do so may result in the Commission's revocation of your market-based rate authority in accordance with Order No. 2001. * * * Please provide your immediate attention to this important compliance matter.⁷

⁷ Letter informing Abacus Group Ltd, et al., that to date their Electric Quarterly Reports had not been filed and requesting that the reports for the 2nd, 3rd, and 4th quarters of 2002, et al., be filed within 30 days (April 24, 2003).

5. Most of the public utilities listed in the caption of this order were sent this letter. In some cases, the letters were returned unopened. Commission staff called the power marketer contacts on file and searched Commission records and the Internet to identify alternate addresses and contacts. Where an alternate address or contact could be identified, a second letter and/or an e-mail was sent, or phone calls were made. Most of these inquiries also received no response. Notwithstanding efforts to find the non-filing public utilities listed in the caption of this order to remind them of their filing obligations, they have not complied with the requirement to file Electric Quarterly Reports.

6. Accordingly, the market-based rate authorizations for those public utilities identified in the caption of this order will be revoked unless they comply with the Commission's requirements.

The Commission orders:

(A) Within 30 days of the date of issuance of this order, each public utility listed in the caption of this order shall file its Electric Quarterly Reports for the 2nd, 3rd, and 4th Quarters of 2002, the 1st, 2nd, 3rd, and 4th Quarters of 2003 and the 1st and 2nd Quarters of 2004. If a public utility fails to make this filing, the Commission will revoke that public utility's authority to sell power at market-based rates and terminate its electric market-based rate tariff. Upon expiration of the filing deadline in this order, the Secretary shall promptly issue a notice, effective on the date of issuance, listing the public utilities whose tariffs have been terminated.

(B) The Secretary is hereby directed to publish this order in the Federal Register.

By the Commission. Commissioner Kelly not participating.
Linda Mitry,
Acting Secretary.

[FR Doc. 04-15153 Filed 7-2-04; 8:45 am]

BILLING CODE 6717-01-P